DEPARTMENT OF LABOR

Proposed Information Collection Request of the ETA 902, Disaster Unemployment Assistance Activities

AGENCY: Employment and Training Administration, Labor.

ACTION: Notice.

SUMMARY: The Department of Labor, as part of its continuing effort to reduce paperwork and respondent burden, conducts a pre-clearance consultation program to provide the general public and Federal agencies with an opportunity to comment on proposed and/or continuing collections of information in accordance with the Paperwork Reduction Act of 1995 (PRA95) [44 U.S.C. 3506(c)(2)(A)]. This program helps to ensure that requested data can be provided in the desired format, reporting burden (time and financial resources) is minimized, collection instruments are clearly understood, and the impact of collection requirements on respondents can be properly assessed. Currently, the Employment and Training Administration (ETA) is soliciting comments concerning the proposed extension of the ETA 902, Disaster Unemployment Assistance Activities under the Robert T. Stafford Disaster Relief and Emergency Assistance Act.

A copy of the proposed information collection request (ICR) can be obtained by contacting the office listed below in the addressee section of this notice or by accessing: http://www.doleta.gov/OMBCN/OMBControlNumber.cfm.

DATES: Written comments must be submitted to the office listed in the addressee section below on or before April 15, 2008.

ADDRESSES: Send comments to Miriam Thompson, U.S. Department of Labor, Employment and Training Administration, Office of Workforce Security, 200 Constitution Avenue NW., Frances Perkins Bldg., Room S-4231, Washington, DC 20210, telephone number (202) 693-3226 (this is not a toll-free number) or by e-mail: thompson.miriam@dol.gov.

SUPPLEMENTARY INFORMATION:

I. Background

The ETA 902 Report, Disaster Unemployment Assistance (DUA) Activities, is a monthly report submitted by an impacted state(s) when a major disaster is declared by the President that provides for individual assistance (including DUA). The report contains data on DUA claims and payment activities associated with administering the DUA program. The information is used by ETA's Office of Workforce Security (OWS) to determine workload counts, for example, the number of individuals determined eligible or ineligible for DUA, the number of appeals filed, and the number of overpayments issued. The report also allows OWS to track states' administrative costs for the DUA program(s).

II. Desired Focus of Comments

Currently, the Department of Labor is soliciting comments concerning the proposed extension for the collection of the ETA 902, Disaster Unemployment Assistance Activities. Comments are requested to:

• Evaluate whether the proposed collection of information is necessary for the proper performance of the functions of the agency, including whether the information will have practical utility;

• Evaluate the accuracy of the agency's estimate of the burden of the proposed collection of information, including the validity of the methodology and assumptions used;

• Enhance the quality, utility, and clarity of the information to be collected; and

• Minimize the burden of the collection of information on those who are to respond, including through the use of appropriate automated, electronic, mechanical, or other technological collection techniques or other forms of information technology, e.g., permitting electronic submissions of responses.

A copy of the proposed information collection request (ICR) can be obtained by contacting the office listed above in the addressee section of this notice.

III. Current Actions

The ETA 902 report is the only report which collects data on DUA payments and claims activities. The continued collection of the information contained on the ETA 902 report is necessary for the purposes of monitoring and evaluating states' performance in administering the DUA program.

Type of Review: Extension without change.

Agency: Employment and Training Administration (ETA).

Title: Disaster Unemployment Assistance, Disaster Payment Activities Report.

OMB Number: 1205-0051.

Agency Number: ETA 902.

Affected Public: State governments.

Total Respondents: 30.

Frequency: Approximately six (6) months.

Total Responses: 180.

Average Time per Response: One (1) hour.

Burden Hours: 180.

Total Burden Cost (capital/startup): $0.00.

Total Burden Cost (operating/maintaining): $ 0.00.

Comments submitted in response to this notice will be summarized and/or included in the request for Office of Management and Budget approval of the information collection request and will also become a matter of public record.

Dated: February 6, 2008.
Cheryl Atkinson,
Administrator, Office of Workforce Security.

[FR Doc. E8-2830 Filed 2-14-08; 8:45 am]

BILLING CODE 4510-FW-P